DEPARTMENT OF HOMELAND SECURITY

Federal Emergency Management Agency

[Docket ID: FEMA-2010-0043]

Agency Information Collection Activities: Submission for OMB Review; Comment Request, OMB No. 1660-0029; Approval and Coordination of Requirements To Use the NETC Extracurricular for Training Activities

AGENCY: Federal Emergency Management Agency, DHS.

ACTION: Notice; 30-day notice and request for comments; revision of a currently approved information collection; OMB No. 1660-0029; FEMA Form 119-17-1 (formerly 75-10), Request for Housing Accommodations; and FEMA Form 119-17-2 (formerly 75-11), Request for Use of NETC Facilities.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before December 8, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Approval and Coordination of Requirements to Use the NETC Extracurricular for Training Activities.

Type of information collection: Revision of a currently approved information collection.

OMB Number: 1660-0029.

Form Titles and Numbers: FEMA Form 119-17-1 (formerly 75-10), Request for Housing Accommodations; and FEMA Form 119-17-2 (formerly 75-11), Request for Use of NETC Facilities.

Abstract: FEMA established the National Emergency Training Center (NETC), located in Emmitsburg, Maryland to offer training for the purpose of emergency preparedness. The NETC site has facilities and housing available for those participating in emergency preparedness. When training space and/or housing are required for those attending the training, a request for use of these areas must be made in advance and this collection provides the mechanism for such requests to be made.

Affected Public: Not-for-profit institutions; Federal Government; State, local or Tribal Government; individuals or households; farms; and business or other for-profit.

Estimated Number of Respondents: 60.

Frequency of Response: On Occasion.

Estimated Average Hour Burden per Respondent: 12 minutes.

Estimated Total Annual Burden Hours: 12 Hours.

Estimated Cost: There is no annual capital, start-up, operations or maintenance cost associated with this collection.

Dated: November 2, 2010.
Lesia M. Banks,
Director, Records Management Division, Mission Support Bureau, Federal Emergency Management Agency, Department of Homeland Security.

[FR Doc. 2010-28110 Filed 11-5-10; 8:45 am]

BILLING CODE 9111-45-P